DEPARTMENT OF ENERGY

Southwestern Power Administration

Integrated System Power Rates: Correction

AGENCY: Southwestern Power Administration, DOE.

ACTION: Correction to notice of proposed rate increase.

SUMMARY: Southwestern Area Power Administration published a document in the Federal Register (70 FR 48121) on August 16, 2005, announcing the public review and comment period on proposed rates. This rate proposal will increase annual system revenues approximately 7.3 percent from $124,325,100 to $133,342,029. Inadvertently, the amount of the proposed increase for the purchased power adder rate component ($227,100 or 0.2 percent) was not included in the initial notice.

FOR FURTHER INFORMATION CONTACT: Mr. Forrest E. Reeves, Assistant Administrator, Office of Corporate Operations, Southwestern Power Administration, U.S. Department of Energy, One West Third Street, Tulsa, Oklahoma 74103, (918) 595-6696, gene.reeves@swpa.gov.

Corrections

In the Federal Register on August 16, 2005, in FR Doc. 05-16190:

Page 48121, under SUMMARY, correct the last sentence to read:

Beginning January 1, 2006, and thereafter, the proposed rates would increase annual system revenues approximately 7.3 percent from $124,325,100 to $133,342,029, which includes an increase in the purchased power adder.

Page 48122, under SUPPLEMENTARY INFORMATION, correct the last sentence of the third paragraph to read:

The Revised Power Repayment Study shows that additional annual revenues of $9,016,929, (a 7.3 percent increase), including the increase in the purchased power adder, beginning January 1, 2006, are needed to satisfy repayment criteria.

Page 48122, under SUPPLEMENTARY INFORMATION, correct the second sentence of the fourth paragraph to read:

The proposed new rates would increase estimated annual revenues from $124,325,100 to $133,342,029 and would satisfy the present financial criteria for repayment of the project and transmission * * *.

Dated: August 29, 2005.
Jon Worthington,
Assistant Administrator.

[FR Doc. 05-17501 Filed 9-1-05; 8:45 am]

BILLING CODE 6450-01-P